DEPARTMENT OF HOUSING AND URBAN DEVELOPMENT

[Docket No. FR-7024-N-19]

30-Day Notice of Proposed Information Collection: Family Unification Program/Family Self-Sufficiency Demonstration Evaluation OMB Control No.: 2528-NEW

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: June 1, 2020.

ADDRESSES: Interested persons are invited to submit comments regarding this proposal. Written comments and recommendations for the proposed information collection should be sent within 30 days of publication of this notice to www.reginfo.gov/public/do/StartPrintedPage15501PRAMain. Find this particular information collection by selecting “Currently under 30-day Review—Open for Public Comments” or by using the search function.

FOR FURTHER INFORMATION CONTACT: Anna P. Guido, Reports Management Officer, QMAC, Department of Housing and Urban Development, 451 7th Street SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on January 13, 2020 at 85 FR 1822.

A. Overview of Information Collection

Title of Information Collection: Family Unification Program/Family Self-Sufficiency Demonstration Evaluation.

OMB Approval Number: 2528-New.

Type of Request: New Collection.

Form Number: Pending.

Description of the need for the information and proposed use: The Family Unification Program/Family Self-Sufficiency (FUP/FSS) Demonstration, authorized in HUD's FY 2015 appropriations, was designed to test whether combining FUP and FSS for eligible youth would result in beneficial outcomes. The demonstration program was first announced in January 2016, and a total of 51 PHAs are participating in the demonstration as of 2019. As a part of the demonstration, the time limit on rental assistance was extended to match the maximum allowable five-year FSS contract (at the start of the demonstration, this was an increase from 18 months, although FUP-Youth vouchers were extended to 36 months shortly after the time the demonstration was announced). No funds or additional FUP vouchers were allocated for the demonstration, although certain regulatory requirements were relaxed for participating Public Housing Agencies (PHAs), with the aim of better aligning the existing programs into the new approach. As a result, all participating PHAs already had FUP allocations. Participating PHAs can choose to modify their FSS programs to better meet the needs of youth participants. The most recent FUP awards (FY17 and FY18) require partnership with a local Continuum of Care (CoC), which can increase referrals of eligible youth through coordinated entry.

The main goal of the FUP/FSS Demonstration Evaluation is to assess whether the combination of FUP and FSS, along with the extension of time limits, has been an effective approach to improving housing stability and self-sufficiency outcomes for youth aging out of foster care. Related to this is whether participation in the demonstration has provided an avenue for closer and more productive partnerships between PHAs, Public Child Welfare Agencies (PCWAs), and other youth-focused organizations involved. This includes capturing information about how PHAs and their PCWA partners have worked together to implement the demonstration program and the challenges and lessons learned from their experience to date.

Initial take-up rates for the demonstration, as well as non-demonstration FUP-Youth voucher issuances, have both generally been low. Given these low take-up rates, an additional baseline goal will be to assess the extent to which the FUP/FSS Demonstration is being actively implemented across the 51 participating PHAs and why some sites that applied to the demonstration do not appear to be implementing the program or issuing many FUP-Youth vouchers. To this end, while many of the core evaluation questions are focused on implementation questions and challenges, the study will also necessarily explore why some demonstration sites do not appear to be fully engaged with the program. Finally, a goal of the evaluation is to measure short-term outcomes for participating youth and determine any emerging common attributes among them.

This notice announces HUD's intent to collect information through the following methods: (1) Study investigators (from Urban Institute) will administer an agency-level web-based survey to all PHAs and PCWAs participating in the demonstration. (2) Investigators will conduct one-time telephone interviews with a sample of staff from 10 PHAs in the demonstration to gather more nuanced information than can be collected in the web-based surveys. (3) Investigators will also visit three FUP/FSS demonstration sites to conduct interviews with PHA and PCWA administrators, front-line workers, community service providers, as well as interviews with youth participants. (4) To describe the characteristics of the participating PHAs and FUP/FSS participants and measure short-term outcomes, the study investigators will analyze HUD Public and Indian Housing Information Center (PIC) and Voucher Management System (VMS) administrative data.

Instrument | Number of respondents | Frequency of response | Responses per annum | Burden hour per response | Total burden hours | Hourly cost per response | Cost
Public Housing Authority (PHA) Survey | 51.00 | 1.00 | 51.00 | 0.50 | 25.50 | ¹ $34.46 | $878.73
Public Child Welfare Agency (PCWA) Survey | 51.00 | 1.00 | 51.00 | 0.50 | 25.50 | ⁶ 34.46 | 878.73
Interview Guide for PHA Staff | 41.00 | 1.00 | 41.00 | 1.00 | 41.00 | ⁶ 34.46 | 1,412.86
Interview Guide for Public Child Welfare Agency (PCWA) Staff | 16.00 | 1.00 | 16.00 | 1.00 | 16.00 | ⁶ 34.46 | 551.36
Interview Guide for Community Service Provider Staff | 3.00 | 1.00 | 3.00 | 1.00 | 3.00 | ² 23.92 | 71.76
Interview Guide for Continuum of Care (COC) Lead Organization Staff | 3.00 | 1.00 | 3.00 | 1.00 | 3.00 | ⁷ 23.92 | 71.76
Interview Guide for Youth | 18.00 | 1.00 | 18.00 | 1.00 | 18.00 | ³ 7.25 | 130.50
Total |  |  | 183.00 |  | 132.00 |  | 3,995.70
¹ “Occupational Employment Statistics: Occupational Employment and Wages, May 2018—Social and Community Service Managers,” Bureau of Labor Statistics, accessed December 6th, 2019, https://www.bls.gov/oes/current/oes119151.htm.
² “Occupational Employment Statistics: Occupational Employment and Wages, May 2018—Child, Family and Social Workers,” Bureau of Labor Statistics, accessed December 6th, 2019, https://www.bls.gov/oes/current/oes211021.htm.
³ For youth interviews, we assume an hourly wage of $7.25, the federal minimum wage.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comment in response to these questions.

C. Authority

Section 3507 of the Paperwork Reduction Act of 1995, 44 U.S.C. Chapter 35.

Dated: April 20, 2020.
Anna P. Guido,
Department Reports Management Officer, Office of the Chief Information Officer.

[FR Doc. 2020-09321 Filed 4-30-20; 8:45 am]

BILLING CODE 4210-67-P